DEPARTMENT OF HEALTH AND HUMAN SERVICES

Centers for Disease Control and Prevention

[30Day-05-0337]

Proposed Data Collections Submitted for Public Comment and Recommendations

The Centers for Disease Control and Prevention (CDC) publishes a list of information collection requests under review by the Office of Management and Budget (OMB) in compliance with the Paperwork Reduction Act (44 U.S.C. Chapter 35). To request a copy of this request, call the CDC Reports Clearance Officer at (404) 371-5976 or send an e-mail to omb@cdc.gov. Send written comments to CDC Desk Officer, Office of Management and Budget, Washington, DC via fax to (202) 395-6974. Written comments should be received within 30 days of this notice.

Proposed Project

National Blood Lead Surveillance System (OMB No. 0920-0337)—Revision—National Center for Environmental Health (NCEH) and National Institute for Occupational Safety and Health (NIOSH), Centers for Disease Control and Prevention (CDC).

CDC, National Center for Environmental Health began the National Childhood Lead Surveillance Program in 1992. The goals of the childhood lead surveillance program are to: (1) Establish childhood lead surveillance systems at the state and national levels; (2) use surveillance data to estimate the extent of elevated blood-lead levels (BLLs) among children; (3) assess the follow-up of children with elevated blood-lead levels; (4) examine potential sources of lead exposure; and (5) help allocate resources for lead poison prevention activities. State surveillance systems are based on reports of blood-lead tests from laboratories. Ideally, laboratories report results of all lead tests (not just elevated values) to the state health department; however, each state determines the reporting level for blood-lead tests. In addition to blood-lead test results, state child-specific surveillance databases contain follow-up data on children with elevated blood-lead levels including data on medical treatment, environmental investigations, and potential sources of lead exposure. Surveillance data for the national database are extracted from the state child tracking databases and transferred to CDC.

Since 1987, CDC National Institute for Occupational Safety and Health has sponsored the state-based Adult Blood Lead Epidemiology and Surveillance (ABLES) program to track cases of elevated BLLs among persons ages 16 years and older, and provide intervention consultation and other assistance. The public health objective of the ABLES program, as stated in Healthy People 2010, is to reduce the number of persons with BLLs >25 μg/dL from work exposures to zero by 2010. The ABLES program seeks to accomplish its objective by continuing to improve its surveillance programs and helping state health and other agencies to effectively intervene to prevent further lead exposures. Intervention strategies implemented by state ABLES-reporting include: conducting follow-up interviews with physicians, employers, and workers; investigating work sites; delivering technical assistance regarding exposure reduction or prevention; providing referrals for consultation and enforcement; and developing and disseminating educational materials and outreach programs. To coordinate their reporting and intervention activities for maximum efficiency, state ABLES programs are strongly encouraged to develop effective working relationships with the childhood lead prevention programs in their states. An estimated two-three percent of children with BLLs >10 μg/dL reach those levels from exposure to lead brought home from the workplace on the clothes or in the vehicles of their adult caregivers.

ABLES is being included for the first time under this OMB approval request. ABLES is also a state laboratory-based surveillance system and many states collect both child and adult blood lead data. This request formerly known as the “National Childhood Blood Lead Surveillance System” is for a three-year extension with various changes to the current childhood system and the inclusion of the adult blood lead surveillance system. There is no cost to respondents other than their time. The estimated annualized burden is 672 hours.

Annualized Burden Table
Respondents | Number of respondents | Number of responses per respondent | Average burden per respondent (in hrs.)
State and Local Health Departments for Child Surveillance | 47 | 4 | 2
State and Local Health Departments for Adult Surveillance | 37 | 4 | 2

Dated: February 1, 2005.
Betsey Dunaway,
Acting Reports Clearance Officer, Office of the Chief Science Officer, Centers for Disease Control and Prevention.

[FR Doc. 05-2486 Filed 2-8-05; 8:45 am]

BILLING CODE 4163-18-P